DEPARTMENT OF THE INTERIOR

Fish and Wildlife Service

Denial of Permit for Marine Mammals

AGENCY: Fish and Wildlife Service, Interior.

ACTION: Notice of denial of permit for marine mammals.

SUMMARY: The following permits were denied.

ADDRESSES: Documents and other information submitted for these applications is available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On June 15, 2001, a notice was published in the Federal Register (66 FR 32635), that an application had been filed with the Fish and Wildlife Service by Aquamarine Fukushima, Iwaki, Japan, for a permit (PRT-020575) to take from the wild and export to Japan one male and two female northern sea otters (Enhydra lutris lutris) for public display purposes. On August 14, 2001, a notice was published in the Federal Register (66 FR 42677), re-opening this application for public comment.

Notice is hereby given that on July 26, 2002, as authorized by the provisions of the Marine Mammal Protection Act of 1972, as amended (16 U.S.C. 1361 et seq.) the Fish and Wildlife Service denied the requested permit.

On June 15, 2001, a notice was published in the Federal Register (66 FR 32635), that an application had been filed with the Fish and Wildlife Service by Ibaraki Prefectural Oarai Aquairium, Ibaraki, Japan, for a permit (PRT-043001) to take from the wild and export to Japan one male and four female northern sea otters (Enhydra lutris lutris) for public display purposes. On August 14, 2001, a notice was published in the Federal Register (66 FR 42677), re-opening this application for public comment.

Notice is hereby given that on July 26, 2002, as authorized by the provisions of the Marine Mammal Protection Act of 1972, as amended (16 U.S.C. 1361 et seq.) the Fish and Wildlife Service denied the requested permit.

Dated: August 2, 2002.
Monica Farris,
Senior Permit Biologist, Branch of Permits, Division of Management Authority.

[FR Doc. 02-23516 Filed 9-16-02; 8:45 am]

BILLING CODE 4310-55-P